DEPARTMENT OF TRANSPORTATION

Federal Aviation Administration

14 CFR Part 65

[Docket No. FAA-2014-0820]

Establishment of Policy Regarding Aircraft Dispatcher Certification Courses

AGENCY: Federal Aviation Administration (FAA), Department of Transportation (DOT).

ACTION: Notice of availability.

SUMMARY: This document announces the availability of a proposed new chapter of FAA Order 8900.1, and a proposed new AC related to Aircraft Dispatcher Certification Courses. The new chapter in FAA Order 8900.1 chapter establishes Policy not previously addressed in FAA Orders or ACs. The associated AC, 65-XX, provides guidelines to operators and potential operators of Aircraft Dispatcher Certification Courses.

DATES: Written comments must be received on or before December 22, 2014.

ADDRESSES: Send comments identified by docket number FAA-2014-0820 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: The FAA will post all comments it receives, without change, to http://www.regulations.gov, including any personal information the commenter provides. Using the search function of the docket Web site, anyone can find and read the electronic form of all comments received into any FAA dockets, including the name of the individual sending the comment (or signing the comment for an association, business, labor union, etc.). DOT's complete Privacy Act Statement can be found in the Federal Register published on April 11, 2000 (65 FR 19477-19478), as well as at http://DocketsInfo.dot.gov.

Docket: Background documents or comments received may be read at http://www.regulations.gov at any time. Follow the online instructions for accessing the docket or Docket Operations in Room W12-140 of the West Building Ground Floor at 1200 New Jersey Avenue SE., Washington, DC, between 9 a.m. and 5 p.m., Monday through Friday, except Federal holidays.

FOR FURTHER INFORMATION CONTACT: Theodora Kessaris, New Program Implementation and Technical Support Branch, Flight Standards Service, Federal Aviation Administration, 800 Independence Avenue SW., Washington, DC 20591; telephone: 202-267-8166; facsimile: 202-267-5229; email: Theodora.kessaris@faa.gov.

SUPPLEMENTARY INFORMATION: This document announces the availability of proposed FAA Order 8900.1 Volume 3, Chapter 63, Aircraft Dispatcher Certification Courses and Proposed Advisory Circular (AC) 65-XX (Number to be Determined), FAA-Approved Aircraft Dispatcher Certification Courses.

Background

The FAA has determined a need to establish formal policy related to FAA-approved Aircraft Dispatcher Certification Courses, operated in accordance with 14 CFR part 65, subpart C. As of the date of this notice there are 44 FAA-approved Aircraft Dispatcher Certification Courses currently operating. The lack of FAA policy related to the approval and oversight of these courses has led to a wide range of inconsistencies with respect to individual course approvals. The new guidance clarifies the requirements found in part 65, subpart C.

The FAA's determination of need to establish policy is also supported by public comment which the FAA received to draft policy changes announced in docket number FAA-2011-1149. The 2011 docket announced draft changes to FAA Order 8900.1, Volume 13, Chapter 3, which applies to Designated Aircraft Dispatcher Examiners (DADE). The 2011 draft policy introduced the FAA's proposed requirements for the content of a Statement of Graduation provided by an Aircraft Dispatcher Certification Course operator in accordance with 14 CFR 65.70(d). Public comment to these proposed requirements pointed out that policy related to Aircraft Dispatcher Certification Course operators did not belong in a policy document related to DADEs. The comments suggested that requirements for a Statement of Graduation that are incumbent upon a course operator should be established someplace other than in a policy document related to DADES. The FAA agrees that policy related to Aircraft Dispatcher Certification Course Operators needs to be established outside of the policy related to DADEs. In light of the FAA's determination and public comment received to docket number FAA-2011-1149, the FAA is providing this notice to provide the public with an opportunity to comment on the proposed new policy related to FAA-approved Aircraft Dispatcher Certification Courses.

While the FAA generally does not request comment on internal orders, the agency has established a docket for public comments regarding this policy for inspectors in recognition of the interest of Aircraft Dispatcher Course Operators and applicants for an aircraft dispatcher certificate under part 65. The FAA has also placed in the docket, a copy of a draft revision to 8900.1, Volume 5, Chapter 5, Section 10, Aircraft Dispatcher Certification, for reference only. The agency will consider all comments received by December 22, 2014. Comments received after that date may be considered if consideration will not delay agency action on the review. A copy of the proposed order and AC is available for review in the assigned docket for the Order at http://www.regulations.gov.

Issued in Washington, DC, on October 10, 2014.
John Barbagallo,
Deputy Director, FAA Flight Standards Service.

[FR Doc. 2014-25060 Filed 10-21-14; 8:45 am]

BILLING CODE 4910-13-P